DEPARTMENT OF DEFENSE

GENERAL SERVICES ADMINISTRATION

NATIONAL AERONAUTICS AND SPACE ADMINISTRATION

[OMB Control No. 9000-0182; Docket No. 2010-0079; Sequence 21]

Submission for OMB Review; Privacy Training

AGENCY: Department of Defense (DOD), General Services Administration (GSA), and National Aeronautics and Space Administration (NASA).

ACTION: Notice of request for public comments regarding an existing OMB information clearance.

SUMMARY: Under the provisions of the Paperwork Reduction Act, the Regulatory Secretariat Division will be submitting to the Office of Management and Budget (OMB) a request for approval of a previously approved information collection requirement regarding privacy training. An initial notice soliciting public comments on the information collection was published in the Federal Register at 76 FR 63896, on October 14, 2011, as part of a proposed rule under FAR case 2010-013. Two public comments were received on the information collection, and are addressed in the notice under, supplementary information. Comments on the rest of the proposed rule will be addressed with the issuance of the final rule.

DATES: Submit comments on or before December 15, 2014.

ADDRESSES: Submit comments identified by Information Collection 9000-0182, Privacy Training, by any of the following methods:

• Regulations.gov: http://www.regulations.gov. Submit comments via the Federal eRulemaking portal by searching the OMB control number 9000-0182. Select the link “Comment Now” that corresponds with “Information Collection 9000-0182, Privacy Training”. Follow the instructions provided on the screen. Please include your name, company name (if any), and “Information Collection 9000-0182, Privacy Training” on your attached document.

• Fax: 202-501-4067.

• Mail: General Services Administration, Regulatory Secretariat Division (MVCB), 1800 F Street NW., Washington, DC 20405. ATTN: Hada Flowers/IC 9000-0182, Privacy Training.

Instructions: Please submit comments only and cite Information Collection 9000-0182, Privacy Training, in all correspondence related to this collection. All comments received will be posted without change to http://www.regulations.gov, including any personal and/or business confidential information provided.

FOR FURTHER INFORMATION CONTACT: Mr. Charles Gray, Procurement Analyst, Office of Governmentwide Acquisition Policy, at telephone 703-795-6328 or via email to charles.gray@gsa.gov.

SUPPLEMENTARY INFORMATION:

A. Purpose

The Privacy Act of 1974, (5 U.S.C. 552a) prescribes fair information practices for how Federal agencies collect, maintain, use, and disseminate personal information. Consistent with provisions of the Privacy Act of 1974, contractors that design, develop, maintain, or operate a system of records on individuals; require access to a system of records; or handle personally identifiable information, are required to be properly trained on the compliance requirements, applicable laws, and appropriate safeguards for the security and confidentiality of personally identifiable information. The training documentation shall be maintained by contractors and provided to the Government upon request. It is anticipated that the Government would request documentation only rarely.

B. Analysis of Public Comments

Two respondents submitted public comments on the estimated annual burden. Analysis of the public comments for the proposed rule on areas other than the estimated annual burden will be addressed with the issuance of the final rule. The analysis of public comments on the estimated annual burden is summarized as follows:

Comments: Two respondents stated that the public's Paperwork Reduction Act estimated annual reporting burden was understated.

Response: The Paperwork Reduction Act, 44 U.S.C. chapter 35, addresses the Government's collection of information and the public's burden associated with any reporting or recordkeeping requirements of the information. The reporting burden will be minimal. Contractors will have to provide training documentation only rarely, i.e., when there is an indication of non-compliance with the privacy training requirements and it is necessary to review documentation in order for the Government to ensure effective contractor management and oversight. The recordkeeping requirements are minor, and are not subject to specific formatting or template requirements. Contractors will have to maintain evidence of completed privacy training. Notwithstanding the minimum reporting and recordkeeping requirements, the estimated annual burden is increased.

C. Annual Reporting Burden

DoD, GSA, and NASA have increased the estimated annual burden from what was published in the Federal Register at 76 FR 63896, on October 14, 2011, as part of a proposed rule under FAR Case 2010-013, Privacy Training. The increase in the total burden is attributed to the clarification that the reporting requirement is applicable to commercial-item contracts. DoD, GSA, and NASA decided that exempting commercial-item contracts and subcontracts would exclude a significant portion of Government contracts that involve the design, development, operation, or maintenance of a system of records on individuals and would therefore diminish the effectiveness of the rule.

Therefore, DoD, GSA, and NASA estimate the annual burden associated with this information collection as follows:

Respondents: 21,025.

Responses per Respondent: 5.

Total Annual Responses: 105,125.

Hours per Response: .25.

Total Burden Hours: 26,281.

Obtaining Copies Of Proposals: Requesters may obtain a copy of the information collection documents from the General Services Administration, Regulatory Secretariat (MVCB), 1800 F Street NW., Washington, DC 20405, telephone 202-501-4755. Please cite OMB Control No. 9000-0182, Privacy Training, in all correspondence.

Dated: November 7, 2014.
Edward Loeb,
Acting Director, Office of Governmentwide Acquisition Policy, Office of Acquisition Policy, Office of Governmentwide Policy.

[FR Doc. 2014-26938 Filed 11-13-14; 8:45 am]

BILLING CODE 6820-EP-P